DEPARTMENT OF THE INTERIOR

Bureau of Land Management

[CA-610-01-1220-AA]

Addendum to Notice of Public Meeting, California Desert District Advisory Council

AGENCY: Bureau of Land Management, Interior.

ACTION: Addendum to notice of public meeting.

SUMMARY: This addendum amends the notice of the U.S. Department of the Interior, Bureau of Land Management (BLM) California Desert District Advisory Council (DAC) field tour and public meeting scheduled on September 13-14, 2002, at Baker, California.

The field tour scheduled on Friday, September 13, has been canceled. The Council will meet in formal session on Saturday, September 14 from 8:30 a.m to 4 p.m. at the Baker Community Center, located at 56725 Park Avenue in Baker. Scheduled agenda topics include discussions on the Final Northern and Eastern Colorado Desert Plan and Proposed Plan Amendment and the Final Northern and Eastern Mojave Plan and Proposed Plan Amendment.

All Desert District Advisory Council meetings are open to the public. Time for public comment may be made available by the Council Chairman during the presentation of various agenda items, and is scheduled at the beginning of the meeting.

Written comments may be filed in advance of the meeting for the California Desert District Advisory Council, c/o Bureau of Land Management, Public Affairs Office, 6221 Box Springs Boulevard, Riverside, California 92507-0714. Written comments also are accepted at the time of the meeting and, if copies are provided to the recorder, will be incorporated into the minutes.

FOR FURTHER INFORMATION CONTACT: Doran Sanchez, BLM California Desert District External Affairs, at (909) 697-5220.

Dated: August 22, 2002.
Linda Hansen,
Acting District Manager.

[FR Doc. 02-21879 Filed 8-27-02; 8:45 am]

BILLING CODE 4310-40-P